ENVIRONMENTAL PROTECTION AGENCY

[FRL—9824-4]

Proposed Administrative Settlement Agreement Under the Comprehensive Environmental Response, Compensation, and Liability Act for the Lightman Drum Company Superfund Site, Located in Winslow Township, Atlantic County, New Jersey

AGENCY: Environmental Protection Agency (EPA).

ACTION: Notice of Proposed Administrative Settlement and Opportunity for Public Comment.

SUMMARY: The United States Environmental Protection Agency (“EPA”) is proposing to enter into an administrative settlement agreement (“Settlement Agreement”) with Air Products and Chemicals, Inc., Alco Industries, Inc., Bayer CropScience, Inc., Colonial Heights Packaging, Inc., Continental Holdings, Inc., Croda Inks Corporation, Forenco, Inc., Henkel Corporation, LANXESS Sybron Chemicals, Inc., Reynolds Metals Company, Sara Lee Corporation, Seton Company, Sonoco Products Company, Stepan Company, Union Carbide Corporation, and USG Corporation (“Settling Parties”) pursuant to Section 122(h) of the Comprehensive Environmental Response, Compensation, and Liability Act (“CERCLA”). The Settlement Agreement provides for Settling Parties to pay certain costs incurred at the Lightman Drum Company Superfund Site, located in Winslow Township, Camden County, New Jersey (“Site”).

In accordance with Section 122(i) of CERCLA, this notice is being published to inform the public of the proposed Settlement Agreement and of the opportunity to comment. For thirty (30) days following the date of publication of this notice, EPA will receive written comments relating to the proposed Settlement Agreement. EPA will consider all comments received and may modify or withdraw its consent to the settlement if comments received disclose facts or considerations that indicate that the proposed settlement is inappropriate, improper or inadequate. EPA's response to any comments received will be available for public inspection at EPA Region 2, 290 Broadway, 17th Floor, New York, New York 10007-1866.

DATES: Comments must be provided by July 18, 2013.

ADDRESSES: Comments should reference the Lightman Drum Company Superfund Site, EPA Docket No. CERCLA-02-2012-2013 and should be sent to the U.S. Environmental Protection Agency, Region 2, Office of Regional Counsel, New Jersey Superfund Branch, 290 Broadway, 17th Floor, New York, NY 10007-1866.

SUPPLEMENTARY INFORMATION: A copy of the proposed administrative settlement, as well as background information relating to the settlement, may be obtained from Michael J. van Itallie, Assistant Regional Counsel, New Jersey Superfund Branch, Office of Regional Counsel, U.S. Environmental Protection Agency, Region 2, 17th Floor, 290 Broadway, New York, New York 10007-1866. Telephone: 212-637-3151.

FOR FURTHER INFORMATION CONTACT: Michael J. van Itallie, Assistant Regional Counsel, New Jersey Superfund Branch, Office of Regional Counsel, U.S. Environmental Protection Agency, Region 2, 17th Floor, 290 Broadway, New York, New York 10007-1866. Telephone: 212-637-3151.

Dated: May 23, 2013.
Walter Mugdan,
Director, Emergency and Remedial Response Division.

[FR Doc. 2013-14517 Filed 6-17-13; 8:45 am]

BILLING CODE 6560-50-P